ENVIRONMENTAL PROTECTION AGENCY

40 CFR Part 62

[EPA-R08-OAR-2017-0171; FRL-9965-11-Region 8]

Approval and Promulgation of State Plans for Designated Facilities and Pollutants: Colorado, Montana, North Dakota, South Dakota, Utah, and Wyoming; Negative Declarations; Correction

AGENCY: Environmental Protection Agency (EPA).

ACTION: Final rule; correction.

SUMMARY: The Environmental Protection Agency (EPA) is correcting a direct final rule that appeared in the Federal Register on June 5, 2017. The document approved a total of 20 negative declarations from all EPA Region 8 states declaring an absence of existing designated facilities, of certain incinerator classes, regulated under one of the Emissions Guidelines for solid waste incineration units. An approved and promulgated negative declaration exempts a state from certain implementation plan development requirements of Clean Air Act sections 111 and 129. An error in the proposed regulatory text amending 40 CFR part 62 is identified and corrected in this action.

DATES: This correction is effective on August 4, 2017.

FOR FURTHER INFORMATION CONTACT: Gregory Lohrke, Air Program, U.S. Environmental Protection Agency (EPA), Region 8, Mail Code 8P-AR, 1595 Wynkoop Street, Denver, Colorado 80202-1129, (303) 312-6396, lohrke.gregory@epa.gov.

SUPPLEMENTARY INFORMATION: In FR Doc. 2017-11576 appearing on page 25734 in the Federal Register of Monday, June 5, 2017, the following correction is made:

§ 62.12620 [Corrected]

1. On page 25738, in the third column, in § 62.12620, in the sole paragraph under this section, in the sixth line, the reference to “Utah” is corrected to read “Wyoming.”

Dated: July 14, 2017.
Debra H. Thomas,
Acting Regional Administrator, Region 8.

[FR Doc. 2017-16278 Filed 8-1-17; 8:45 am]

BILLING CODE 6560-50-P